DEPARTMENT OF HEALTH AND HUMAN SERVICES

Food and Drug Administration

21 CFR Part 864

[Docket No. FDA-2018-N-0399]

Medical Devices; Hematology and Pathology Devices; Classification of Lynch Syndrome Test Systems; Correction

AGENCY: Food and Drug Administration, HHS.

ACTION: Final order; correction.

SUMMARY: The Food and Drug Administration is correcting a final order entitled “Medical Devices; Hematology and Pathology Devices; Classification of Lynch Syndrome Test Systems” that appeared in the Federal Register of February 27, 2018. The document was published with the incorrect docket number. This document corrects that error.

DATES: Effective March 14, 2018.

FOR FURTHER INFORMATION CONTACT: Lisa Granger, Office of Policy and Planning, Food and Drug Administration, 10903 New Hampshire Ave., Bldg, 32, Rm. 3330, Silver Spring, MD 20993-0002, 301-796-9115.

SUPPLEMENTARY INFORMATION: In the Federal Register of February 27, 2018 (83 FR 8355), in FR Doc. 2018-03924, on page 8355, the following correction is made:

1. On page 8355, in the third column, in the header of the document, the docket number is corrected to read “FDA-2018-N-0399”.

Dated: March 8, 2018.
Leslie Kux,
Associate Commissioner for Policy.

[FR Doc. 2018-05115 Filed 3-13-18; 8:45 am]

BILLING CODE 4164-01-P